DEPARTMENT OF THE TREASURY

Submission for OMB Review; Comment Request

November 23, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 5, 2005 to be assured of consideration.

Internal Revenue Service (IRS)

OMB Number: 1545-1753.

Form Number: IRS Form 10574.

Type of Review: Revision.

Title: Community Based Outlet Program.

Description: Form 10574 will be used by companies, businesses and government agencies to indicate their interest in participating in the IRS Community Based Outlet Program. This form will be returned to the CBOP analyst by fax or mail for appropriate action.

Respondents: Business or other for-profit, State, Local or Tribal Government.

Estimated Number of Respondents: 25.

Estimated Burden Hours Respondent: 5 Minutes.

Frequency of response: On occasion.

Estimated Total Reporting Burden: 2 hours.

Clearance Officer: R. Joseph Durbala, (202) 622-3634, Internal Revenue Service, Room 6516, 1111 Constitution Avenue, NW., Washington, DC 20224.

OMB Reviewer: Joseph F. Lackey, Jr., (202) 395-7316, Office of Management and Budget, Room 10235, New Executive Office Building, Washington, DC 20503.

Christopher Davis,
Treasury PRA Assistant.

[FR Doc. 04-26722 Filed 12-3-04; 8:45 am]

BILLING CODE 4830-01-P